ENVIRONMENTAL PROTECTION AGENCY

40 CFR Part 52

[CA275-0423a; FRL-7609-2]

Revisions to the California State Implementation Plan, South Coast Air Quality Management District

AGENCY: Environmental Protection Agency (EPA).

ACTION: Direct final rule.

SUMMARY: EPA is taking direct final action to approve revisions to the South Coast Air Quality Management District portion of the California State Implementation Plan (SIP). These revisions concern volatile organic compound (VOC) emissions from food product manufacturing and processing, recordkeeping for VOC sources, and particulate matter (PM) emissions from woodworking operations. We are approving local rules that regulate these emission sources under the Clean Air Act as amended in 1990 (CAA or the Act).

DATES: This rule is effective on March 22, 2004 without further notice, unless EPA receives adverse comments by February 23, 2004. If we receive such comment, we will publish a timely withdrawal in the Federal Register to notify the public that this rule will not take effect.

ADDRESSES: Send comments to Andy Steckel, Rulemaking Office Chief (AIR-4), U.S. Environmental Protection Agency, Region IX, 75 Hawthorne Street, San Francisco, CA 94105-3901, or e-mail to steckel.andrew@epa.gov, or submit comments at http://www.regulations.gov.

You can inspect copies of the submitted SIP revisions, EPA's technical support documents (TSDs), and public comments at our Region IX office during normal business hours by appointment. You may also see copies of the submitted SIP revisions by appointment at the following locations:

Air and Radiation Docket and Information Center, U.S. Environmental Protection Agency, Room B-102, 1301 Constitution Avenue, NW., (Mail Code 6102T), Washington, DC 20460;

California Air Resources Board, Stationary Source Division, Rule Evaluation Section, 1001 “I” Street, Sacramento, CA 95814; and,

South Coast Air Quality Management District, 21865 East Copley Drive, Diamond Bar, CA 91765-4182.

A copy of the rule may also be available via the Internet at http://www.arb.ca.gov/drdb/drdbltxt.htm. Please be advised that this is not an EPA website and may not contain the same version of the rule that was submitted to EPA.

FOR FURTHER INFORMATION CONTACT: Jerald S. Wamsley, EPA Region IX, at either (415) 947-4111, or wamsley.jerry@epa.gov.

SUPPLEMENTARY INFORMATION: Throughout this document, “we,” “us” and “our” refer to EPA.

Table of Contents

I. The State's Submittal.

A. What rules did the State submit?

B. Are there other versions of these rules?

C. What is the purpose of the submitted rule revisions?

II. EPA's Evaluation and Action.

A. How is EPA evaluating the rules?

B. Do the rules meet the evaluation criteria?

C. EPA recommendations to further improve the rules.

D. Public comment and final action.

III. Statutory and Executive Order Reviews.

I. The State's Submittal

A. What Rules Did the State Submit?

Table 1 lists the rules we are approving with the dates that they were adopted by the local air agencies and submitted by the California Air Resources Board (CARB).

Table 1.—Submitted Rules
Local agency | Rule No. | Rule title | Adopted | Submitted
SCAQMD | 1131 | Food Product Manufacturing and Processing Operations | 06/06/03 | 08/11/03
SCAQMD | 109 | Recordkeeping for Volatile Organic Compound Emissions | 05/02/03 | 08/11/03
SCAQMD | 1137 | PM-10 Emission Reductions from Woodworking Operations | 02/01/02 | 11/19/02

EPA found these rule submittals met the completeness criteria in 40 CFR Part 51 Appendix V on the following dates: October 10, 2003 for Rule 1131; October 10, 2003 for Rule 109, and February 7, 2003 for Rule 1137. These completeness criteria must be met before formal EPA review can begin.

B. Are There Other Versions of These Rules?

There are previous versions of Rules 1131 and 109 in the SIP. We gave a limited approval and limited disapproval to Rule 1131 on June 26, 2002 (see 67 FR 43004) and we gave a full approval to Rule 109 on February 12, 2002 (see 67 FR 6410). CARB has made no intervening submittals of either Rule 1131 or Rule 109 since these last EPA actions. There is no version of Rule 1137 in the SIP as it has not be submitted to EPA in the past. There have been no subsequent submittals of Rule 1137 since CARB's November 2002 submittal to EPA.

C. What Is the Purpose of the Submitted Rule Revisions?

VOCs help produce ground-level ozone and smog, which harm human health and the environment. Similarly, PM-10 (particulate matter less than 10 microns) causes a wide range of health problems. Section 110(a) of the CAA requires states to submit regulations that control VOC and PM-10 emissions.

SCAQMD Rule 1131 specifies the VOC content of solvents used in food product manufacturing and to clean and sterilize the equipment used in the manufacturing process. SCAQMD's June 6, 2003 amendments to Rule 1131 concerned these sections:

—Subsection (c)(1)(C) was deleted; and,

—The applicability and exemption portions of the rule were amended to say that food supplements in tablet or capsule form are regulated by Rule 1103—Pharmaceuticals and Cosmetics Manufacturing Operations.

SCAQMD Rule 109 establishes recordkeeping requirements for stationary sources that use coatings, adhesives, solvents and graphic arts materials. Rule 109 is referenced by many industry-specific prohibitory rules in SCAQMD's 1100 series. SCAQMD's amendments to the SIP-approved version of Rule 109 are summarized below.

—Several test methods were added to determine the VOC content of super-compliant materials (solvent with a VOC content less than 50 grams per liter) including non thin-film radiation curable materials.

—A provision was also added to allow sources to use an alternative test method if it is adequate to determine compliance and is approved in writing by SCAQMD, CARB, and EPA.

—The discussion of exempt compounds within the test method section was revised. All compounds not listed in SCAQMD Test Methods 302 and 303 as exempt are assumed not to be exempt until they are specifically identified by the manufacturer along with the test method used for the identification.

—An exemption from recordkeeping was added for super compliant materials at a facility where total facility VOC emissions do not exceed 4 tons per year, including permitted and non-permitted emissions from all VOC containing materials.

SCAQMD Rule 1137 is designed to limit particulate matter (PM) emissions at woodworking operations such as lumbermills, furniture manufacturers, cabinet shops, and sash and door manufacturers. The rule requires that woodworking operations send sawdust emissions either directly to a baghouse filter, or to a pneumatic conveyance device that leads to a baghouse filter. These woodworking operations must either maintain, or have implemented these controls by July 1, 2002.

The TSD has more information about these rules.

II. EPA's Evaluation and Action

A. How Is EPA Evaluating the Rules?

Generally, SIP rules must be enforceable (see section 110(a) of the Act), and must not relax existing requirements (see sections 110(l) and 193). VOC prohibitory rules must require Reasonably Available Control Technology (RACT) for major sources in nonattainment areas (see section 182(a)(2)(A)). Similarly, PM prohibitory rules must require Reasonably Available Control Methods (RACM) and Best Available Control Methods (BACM) for major sources and significant source categories in serious PM nonattainment areas (see section 189 (a) and (b)). The SCAQMD regulates an ozone nonattainment area (see 40 CFR part 81), so Rules 1131 and 109 must fulfill RACT. SCAQMD regulates a serious PM nonattainment area; however, Rule 1137 need not fufill RACM or BACM given its lack of RACM or BACM status within the SCAQMD PM attainment plan. Rule 1137 is only a listed control measure in that plan and need only be approvable as meeting enforceability guidelines.

Guidance and policy documents that we used to help evaluate specific enforceability and RACT requirements consistently include the following:

—Portions of the proposed post-1987 ozone and carbon monoxide policy that concern RACT, 52 FR 45044, November 24, 1987.

—“Issues Relating to VOC Regulation Cutpoints, Deficiencies, and Deviations,” EPA, May 25, 1988 (the Bluebook).

—“Guidance Document for Correcting Common VOC & Other Rule Deficiencies,” EPA Region 9, August 21, 2001 (the Little Bluebook).

—General Preamble to Title I of the Clean Air Act Amendments of 1990, April 16, 1992, pages 13540-13541.

—General Preamble to Title I of the Clean Air Act Amendments of 1990, August 16, 1994, pages 42008-42015.

B. Do the Rules Meet the Evaluation Criteria?

We believe these rules are consistent with the relevant policy and guidance regarding enforceability, RACT, and SIP relaxations. The revisions to Rule 1131 deleting section (c)(1)(C) addresses the deficiency providing cause for our 2002 limited disapproval action. The TSDs have more information on our respective evaluation of each rule.

C. EPA Recommendations To Further Improve the Rules

We have no suggestions for additional rule revisions that do not affect EPA's current action but are recommended for the next time the local agency modifies the rules.

D. Public Comment and Final Action

As authorized in section 110(k)(3) of the Act, EPA is fully approving the submitted rules because we believe they fulfill all relevant requirements. We do not think anyone will object to this approval, so we are finalizing it without proposing it in advance. However, in the Proposed Rules section of this Federal Register, we are simultaneously proposing approval of the same submitted rules. If we receive adverse comments by February 23, 2004, we will publish a timely withdrawal in the Federal Register to notify the public that the direct final approval will not take effect and we will address the comments in a subsequent final action based on the proposal. If we do not receive timely adverse comments, the direct final approval will be effective without further notice on March 22, 2004. This will incorporate these rules into the federally enforceable SIP and will permanently terminate all section 179 and 110(c) sanction and FIP implications associated with our limited disapproval of a prior version of Rule 1131.

Please note that if EPA receives adverse comment on an amendment, paragraph, or section of this rule and if that provision may be severed from the remainder of the rule, EPA may adopt as final those provisions of the rule that are not the subject of an adverse comment.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by March 22, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Particulate matter, Reporting and recordkeeping requirements, Volatile organic compounds.

Dated: December 4, 2003.
Wayne Nastri,
Regional Administrator, Region IX.

Part 52, chapter I, title 40 of the Code of Federal Regulations is amended as follows:

PART 52—[AMENDED]

1. The authority citation for Part 52 continues to read as follows:

Authority: 42 U.S.C. 7401 et seq.

Subpart F—California

2. Section 52.220 is amended by adding paragraphs (c)(307)(i)(D) and (c)(320)(i)(B) to read as follows:

§ 52.220 Identification of plan.

* * * * *

(c) * * *

(307) * * *

(i) * * *

(D) South Coast Air Quality Management District.

(1) Rule 1137 adopted on February 1, 2002.

* * * * *

(320) * * *

(i) * * *

(B) South Coast Air Quality Management District.

(1) Rule 109 adopted on May 5, 1989 and amended on May 2, 2003; and, Rule 1131 adopted on September 15, 2000 and amended on June 6, 2003.

* * * * *

[FR Doc. 04-1037 Filed 1-21-04; 8:45 am]

BILLING CODE 6560-50-P